DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent No. 6,846,345: Synthesis of Metal Nanoparticle Compositions from Metallic and Ethynyl Compounds, Navy Case No. 83,778.//U.S. Patent No. 6,884,861: Metal Nanoparticle Thermoset and Carbon Compositions from Mixtures of Metallocene-Aromatic-Acetylene Compounds, Navy Case No. 82,591.//U.S. Patent No. 6,890,504: Polymeric and Carbon Compositions with Metal Nanoparticles, Navy Case No. 84,963.//U.S. Patent Application No. 09/885,255: Probabilistic Neutral Network for Multi-Criteria Fire Detector, Navy Case No. 83,367.//U.S. Patent Application No. 10/216,470: Bulk Synthesis of Carbon Nanotubes from Metallocene and Oranometallic Transition Metal Complexes of Ethynyl Moieties, Navy Case No. 83,777.//U.S. Patent Application No. 10/652,082: Polymeric and Carbon Compositions with Metal Nanoparticles, Navy Case No. 84,962.//U.S. Patent Application No. 10/750,637: Catalytic Surfaces for Active Protection from Air/water Borne Toxins by Passivation and Adsorption of Toxic Materials, Navy Case No. 84,598.//U.S. Patent Application No. 10/875,805: Synthesis of Metal Nanoparticle Compositions from Metallic and Ethynyl Compounds, Navy Case No. 96,386.//U.S. Patent Application No. 10/875,806: Synthesis of Metal Nanoparticle Compositions from Metallic and Ethynyl Compounds, Navy Case No. 96,414.//U.S. Patent Application No. 10/875,807: Synthesis of Metal Nanoparticle Compositions from Metallic and Ethynyl Compounds, Navy Case No. 96,387.//U.S. Patent Application No. 11/018,678: Highly Aromatic Compounds and Polymers as Precursors to Carbon Nanotube and Metal Nanoparticle Compositions in Shaped Solid, Navy Case No. 96,675 and any continuations, continuations in part, divisionals or re-issues thereof.

ADDRESSES: Requests for copies of the inventions cited should be directed to the Naval Research Laboratory, Code 1004, 4555 Overlook Avenue, SW., Washington, DC 20375-5320, and must include the Navy Case number.

FOR FURTHER INFORMATION CONTACT: Jane F. Kuhl, Head, Technology Transfer Office, NRL Code 1004, 4555 Overlook Avenue, SW., Washington, DC 20375-5320, telephone 202-767-3083. Due to temporary U.S. Postal Service delays, please fax 202-404-7920, E-Mail: kuhl@utopia.nrl.navy.mil or use courier delivery to expedite response.

Authority: 35 U.S.C. 207, 37 CFR part 404.

Dated: June 30, 2005.
I.C. Le Moyne Jr.
Lieutenant, Judge Advocate General's Corps, U.S. Navy, Alternate Federal Register Liaison Officer.

[FR Doc. 05-13428 Filed 7-7-05; 8:45 am]

BILLING CODE 3810-FF-P